DEPARTMENT OF LABOR

Employment and Training Administration

[TA-W-51,873]

Alpha Thought/Provider Business Services, Pittsburgh, PA; Dismissal of Application for Reconsideration

Pursuant to 29 CFR 90.18(C) an application for administrative reconsideration was filed with the Director of the Division of Trade Adjustment Assistance for workers at Alpha Thought/Provider Business Services, Pittsburgh, Pennsylvania. The application contained no new substantial information which would bear importantly on the Department's determination. Therefore, dismissal of the application was issued.

TA-W-51,873; Alpha Thought/Provider Business Services, Pittsburgh, Pennsylvania (August 8, 2003).

Signed at Washington, DC this 13th day of August 2003.
Linda G. Poole,
Acting Director, Division of Trade Adjustment Assistance.

[FR Doc. 03-21276 Filed 8-19-03; 8:45 am]

BILLING CODE 4510-30-P